ENVIRONMENTAL PROTECTION AGENCY

40 CFR Ch. I

[FRL 10014-66-OP; EPA-HQ-OAR-2019-0168; EPA-HQ-OAR-2020-0099; EPA-HQ-OAR-2020-0106]

Fall 2020 Unified Agenda of Regulatory and Deregulatory Actions

AGENCY: Environmental Protection Agency.

ACTION: Semiannual regulatory agenda.

SUMMARY: The Environmental Protection Agency (EPA) publishes the Semiannual Agenda of Regulatory and Deregulatory Actions online at https://www.reginfo.gov and at https://www.regulations.gov to update the public. This document contains information about:

• Regulations in the Semiannual Agenda that are under development, completed, or canceled since the last agenda; and

• Reviews of regulations with small business impacts under Section 610 of the Regulatory Flexibility Act.

FOR FURTHER INFORMATION CONTACT: If you have questions or comments about a particular action, please get in touch with the agency contact listed in each agenda entry. If you have general questions about the Semiannual Agenda, please contact: Caryn Muellerleile (muellerleile.caryn@epa.gov; 202-564-2855).

Table of Contents

I. Introduction

A. EPA's Regulatory Information

B. What key statutes and Executive Orders guide EPA's rule and policymaking process?

C. How can you be involved in EPA's rule and policymaking process?

II. Semiannual Agenda of Regulatory and Deregulatory Actions

A. What actions are included in the e-Agenda and the Regulatory Flexibility Agenda?

B. How is the e-Agenda organized?

C. What information is in the Regulatory Flexibility Agenda and the e-Agenda?

D. What tools are available for mining Regulatory Agenda data and for finding more about EPA rules and policies?

III. Review of Regulations Under 610 of the Regulatory Flexibility Act

A. Reviews of Rules With Significant Impacts on a Substantial Number of Small Entities

B. What other special attention does EPA give to the impacts of rules on small businesses, small governments, and small nonprofit organizations?

IV. Thank You for Collaborating With Us

SUPPLEMENTARY INFORMATION:

I. Introduction

EPA is committed to a regulatory strategy that effectively achieves the Agency's mission of protecting the environment and the health, welfare, and safety of Americans while also supporting economic growth, job creation, competitiveness, and innovation. EPA publishes the Semiannual Agenda of Regulatory and Deregulatory Actions to update the public about regulatory activity undertaken in support of this mission. In the Semiannual Agenda, EPA provides notice of our plans to review, propose, and issue regulations.

Additionally, EPA's Semiannual Agenda includes information about rules that may have a significant economic impact on a substantial number of small entities, and review of those regulations under the Regulatory Flexibility Act, as amended.

In this document, EPA explains in greater detail the types of actions and information available in the Semiannual Agenda and actions that are currently undergoing review specifically for impacts on small entities.

A. EPA's Regulatory Information

“E-Agenda,” ”online regulatory agenda,” and ”semiannual regulatory agenda” all refer to the same comprehensive collection of information that, until 2007, was published in the Federal Register. Currently, this information is only available through an online database, at both www.reginfo.gov/ and www.regulations.gov.

“Regulatory Flexibility Agenda” refers to a document that contains information about regulations that may have a significant impact on a substantial number of small entities. We continue to publish this document in the Federal Register pursuant to the Regulatory Flexibility Act of 1980. This document is available at https://www.govinfo.gov/app/collection/fr.

“Unified Regulatory Agenda” refers to the collection of all agencies' agendas with an introduction prepared by the Regulatory Information Service Center facilitated by the General Service Administration.

“Regulatory Agenda Preamble” refers to the document you are reading now. It appears as part of the Regulatory Flexibility Agenda and introduces both EPA's Regulatory Flexibility Agenda and the e-Agenda.

“610 Review” as required by the Regulatory Flexibility Act means a periodic review within ten years of promulgating a final rule that has or may have a significant economic impact on a substantial number of small entities. EPA maintains a list of these actions at https://www.epa.gov/reg-flex/section-610-reviews. EPA has three 610 reviews ongoing in fall 2020.

B. What key statutes and Executive Orders guide EPA's rule and policymaking process?

A number of environmental laws authorize EPA's actions, including but not limited to:

• Clean Air Act (CAA),

• Clean Water Act (CWA),

• Comprehensive Environmental Response, Compensation, and Liability Act (CERCLA, or Superfund),

• Emergency Planning and Community Right-to-Know Act (EPCRA),

• Federal Insecticide, Fungicide, and Rodenticide Act (FIFRA),

• Resource Conservation and Recovery Act (RCRA),

• Safe Drinking Water Act (SDWA), and

• Toxic Substances Control Act (TSCA).

Not only must EPA comply with environmental laws, but also administrative legal requirements that apply to the issuance of regulations, such as: The Administrative Procedure Act (APA), the Regulatory Flexibility Act (RFA) as amended by the Small Business Regulatory Enforcement Fairness Act (SBREFA), the Unfunded Mandates Reform Act (UMRA), the Paperwork Reduction Act (PRA), the National Technology Transfer and Advancement Act (NTTAA), and the Congressional Review Act (CRA).

EPA also meets a number of requirements contained in numerous Executive Orders: 13771, “Reducing Regulation and Controlling Regulatory Costs” (82 FR 9339, Feb. 3, 2017); 12866, “Regulatory Planning and Review” (58 FR 51735, Oct. 4, 1993), as supplemented by Executive Order 13563, “Improving Regulation and Regulatory Review” (76 FR 3821, Jan. 21, 2011); 12898, “Environmental Justice” (59 FR 7629, Feb. 16, 1994); 13045, “Children's Health Protection” (62 FR 19885, Apr. 23, 1997); 13132, “Federalism” (64 FR 43255, Aug. 10, 1999); 13175, “Consultation and Coordination with Indian Tribal Governments” (65 FR 67249, Nov. 9, 2000); 13211, “Actions Concerning Regulations That Significantly Affect Energy Supply, Distribution, or Use” (66 FR 28355, May 22, 2001).

C. How can you be involved in EPA's rule and policymaking process?

You can make your voice heard by getting in touch with the contact person provided in each agenda entry. EPA encourages you to participate as early in the process as possible. You may also participate by commenting on proposed rules published in the Federal Register (FR).

Instructions on how to submit your comments through https://www.regulations.gov are provided in each Notice of Proposed Rulemaking (NPRM). To be most effective, comments should contain information and data that support your position and you also should explain why EPA should incorporate your suggestion in the rule or other type of action. You can be particularly helpful and persuasive if you provide examples to illustrate your concerns and offer specific alternative(s) to that proposed by EPA.

EPA believes its actions will be more cost effective and protective if the development process includes stakeholders working with us to help identify the most practical and effective solutions to environmental problems. EPA encourages you to become involved in its rule and policymaking process. For more information about EPA's efforts to increase transparency, participation and collaboration in EPA activities, please visit https://www.epa.gov/open.

II. Semiannual Agenda of Regulatory and Deregulatory Actions

A. What actions are included in the e-Agenda and the Regulatory Flexibility Agenda?

EPA includes regulations in the e-Agenda. However, there is no legal significance to the omission of an item from the agenda, and EPA generally does not include the following categories of actions:

• Administrative actions such as delegations of authority, changes of address, or phone numbers;

• Under the CAA: Revisions to state implementation plans; equivalent methods for ambient air quality monitoring; deletions from the new source performance standards source categories list; delegations of authority to states; area designations for air quality planning purposes;

• Under FIFRA: Registration-related decisions, actions affecting the status of currently registered pesticides, and data call-ins;

• Under the Federal Food, Drug, and Cosmetic Act: Actions regarding pesticide tolerances and food additive regulations;

• Under RCRA: Authorization of State solid waste management plans; hazardous waste delisting petitions;

• Under the CWA: State Water Quality Standards; deletions from the section 307(a) list of toxic pollutants; suspensions of toxic testing requirements under the National Pollutant Discharge Elimination System (NPDES); delegations of NPDES authority to States;

• Under SDWA: Actions on State underground injection control programs.

Meanwhile, the Regulatory Flexibility Agenda includes:

• Actions likely to have a significant economic impact on a substantial number of small entities;

• Rules the Agency has identified for periodic review under section 610 of the RFA.

EPA has three ongoing 610 reviews in this Agenda.

B. How is the e-Agenda organized?

Online, you can choose how to sort the agenda entries by specifying the characteristics of the entries of interest in the desired individual data fields for both the www.reginfo.gov and www.regulations.gov versions of the e-Agenda. You can sort based on the following characteristics: EPA subagency (such as Office of Water); stage of rulemaking as described in the following paragraphs; alphabetically by title; or the Regulation Identifier Number (RIN), which is assigned sequentially when an action is added to the agenda.

Each entry in the Agenda is associated with one of five rulemaking stages. The rulemaking stages are:

1. Prerule Stage—EPA's prerule actions generally are intended to determine whether the agency should initiate rulemaking. Prerulemakings may include anything that influences or leads to rulemaking; this would include Advance Notices of Proposed Rulemaking (ANPRMs), studies or analyses of the possible need for regulatory action.

2. Proposed Rule Stage—Proposed rulemaking actions include EPA's Notice of Proposed Rulemakings (NPRMs); these proposals are scheduled to publish in the Federal Register within the next year.

3. Final Rule Stage—Final rulemaking actions are those actions that EPA is scheduled to finalize and publish in the Federal Register within the next year.

4. Long-Term Actions—This section includes rulemakings for which the next scheduled regulatory action (such as publication of a NPRM or final rule) is twelve or more months into the future. We urge you to explore becoming involved even if an action is listed in the Long-Term category.

5. Completed Actions—EPA's completed actions are those that have been promulgated and published in the Federal Register since publication of the spring 2020 Agenda. The term completed actions also includes actions that EPA is no longer considering and has elected to “withdraw” and the results of any RFA section 610 reviews.

C. What information is in the Regulatory Flexibility Agenda and the e-Agenda?

The Regulatory Flexibility Agenda entries include only the nine categories of information that are required by the Regulatory Flexibility Act of 1980 and by Federal Register Agenda printing requirements: Sequence Number, RIN, Title, Description, Statutory Authority, Section 610 Review, if applicable, Regulatory Flexibility Analysis Required, Schedule and Contact Person. Note that the electronic version of the Agenda (E-Agenda) replicates each of these actions with more extensive information, described below.

E-Agenda entries include:

Title: A brief description of the subject of the regulation. The notation “Section 610 Review” follows the title if we are reviewing the rule as part of our periodic review of existing rules under section 610 of the RFA (5 U.S.C. 610).

Priority: Each entry is placed into one of the five following categories:

a. Economically Significant: Under Executive Order 12866, a rulemaking that may have an annual effect on the economy of $100 million or more, or adversely affect in a material way the economy, a sector of the economy, productivity, competition, jobs, the environment, public health or safety, or State, local, or tribal governments or communities.

b. Other Significant: A rulemaking that is not economically significant but is considered significant for other reasons. This category includes rules that may:

1. Create a serious inconsistency or otherwise interfere with an action taken or planned by another agency;

2. Materially alter the budgetary impact of entitlements, grants, user fees, or loan programs, or the rights and obligations of recipients; or

3. Raise novel legal or policy issues arising out of legal mandates, the President's priorities, or the principles in Executive Order 12866.

c. Substantive, Nonsignificant: A rulemaking that has substantive impacts but is not Significant, Routine and Frequent, or Informational/Administrative/Other.

d. Routine and Frequent: A rulemaking that is a specific case of a recurring application of a regulatory program in the Code of Federal Regulations. If an action that would normally be classified Routine and Frequent is reviewed by the Office of Management and Budget (OMB) under Executive Order 12866, then we would classify the action as either “Economically Significant” or “Other Significant.”

e. Informational/Administrative/Other: An action that is primarily informational or pertains to an action outside the scope of Executive Order 12866.

Executive Order 13771 Designation: Each entry is placed into one of the following categories:

a. Deregulatory: When finalized, an action is expected to have total costs less than zero;

b. Regulatory: The action is either

(i) a significant regulatory action as defined in section 3(f) of Executive Order 12866, or

(ii) a significant guidance document (e.g., significant interpretive guidance) reviewed by OMB's Office of Information and Regulatory Affairs (OIRA) under the procedures of Executive Order 12866 that, when finalized, is expected to impose total costs greater than zero;

c. Fully or Partially Exempt: The action has been granted, or is expected to be granted, a full or partial waiver under one or more of the following circumstances:

(i) It is expressly exempt by Executive Order 13771 (issued with respect to a “military, national security, or foreign affairs function of the United States”; or related to “agency organization, management, or personnel”), or

(ii) it addresses an emergency such as critical health, safety, financial, or non-exempt national security matters (offset requirements may be exempted or delayed), or

(iii) it is required to meet a statutory or judicial deadline (offset requirements may be exempted or delayed), or

(iv) expected to generate de minimis costs;

d. Not subject to, not significant: is a NPRM or final rule AND is neither an Executive Order 13771 regulatory action nor an Executive Order 13771 deregulatory action;

e. Other: At the time of designation, either the available information is too preliminary to determine Executive Order 13771 status or other reasonable circumstances preclude a preliminary Executive Order 13771 designation.

f. Independent agency: Is an action an independent agency anticipates issuing and thus is not subject to Executive Order 13771.

Major: A rule is “major” under 5 U.S.C. 801 (Pub. L. 104-121) if it has resulted or is likely to result in an annual effect on the economy of $100 million or more or meets other criteria specified in the Congressional Review Act.

Unfunded Mandates: Whether the rule is covered by section 202 of the Unfunded Mandates Reform Act of 1995 (Pub. L. 104-4). The Act requires that, before issuing an NPRM likely to result in a mandate that may result in expenditures by State, local, and tribal governments, in the aggregate, or by the private sector of more than $100 million in 1 year, the agency prepare a written statement on federal mandates addressing costs, benefits, and intergovernmental consultation.

Legal Authority: The sections of the United States Code (U.S.C.), Public Law (Pub. L.), Executive Order (E.O.), or common name of the law that authorizes the regulatory action.

CFR Citation: The sections of the Code of Federal Regulations that would be affected by the action.

Legal Deadline: An indication of whether the rule is subject to a statutory or judicial deadline, the date of that deadline, and whether the deadline pertains to a Notice of Proposed Rulemaking, a Final Action, or some other action.

Abstract: A brief description of the problem the action will address.

Timetable: The dates and citations (if available) for all past steps and a projected date for at least the next step for the regulatory action. A date displayed in the form 05/00/21 means the agency is predicting the month and year the action will take place but not the day it will occur. For some entries, the timetable indicates that the date of the next action is “to be determined.”

Regulatory Flexibility Analysis Required: Indicates whether EPA has prepared or anticipates preparing a regulatory flexibility analysis under section 603 or 604 of the RFA. Generally, such an analysis is required for proposed or final rules subject to the RFA that EPA believes may have a significant economic impact on a substantial number of small entities.

Small Entities Affected: Indicates whether the rule is anticipated to have any effect on small businesses, small governments or small nonprofit organizations.

Government Levels Affected: Indicates whether the rule may have any effect on levels of government and, if so, whether the affected governments are State, local, tribal, or Federal.

Federalism Implications: Indicates whether the action is expected to have substantial direct effects on the States, on the relationship between the National Government and the States, or on the distribution of power and responsibilities among the various levels of government.

Energy Impacts: Indicates whether the action is a significant energy action under Executive Order 13211.

Sectors Affected: Indicates the main economic sectors regulated by the action. The regulated parties are identified by their North American Industry Classification System (NAICS) codes. These codes were created by the Census Bureau for collecting, analyzing, and publishing statistical data on the U.S. economy. There are more than 1,000 NAICS codes for sectors in agriculture, mining, manufacturing, services, and public administration.

International Trade Impacts: Indicates whether the action is likely to have international trade or investment effects, or otherwise be of international interest.

Agency Contact: The name, address, phone number, and email address, if available, of a person who is knowledgeable about the regulation.

Additional Information: Other information about the action including docket information.

URLs: For some actions, the internet addresses are included for reading copies of rulemaking documents, submitting comments on proposals, and getting more information about the rulemaking and the program of which it is a part.

RIN: The Regulation Identifier Number is used by OMB to identify and track rulemakings. The first four digits of the RIN correspond with the EPA office with lead responsibility for developing the action.

D. What tools are available for mining Regulatory Agenda data and for finding more about EPA rules and policies?

1. Federal Regulatory Dashboard

The https://www.reginfo.gov/ searchable database maintained by the Regulatory Information Service Center and OIRA, allows users to view the Regulatory Agenda database (https://www.reginfo.gov/public/do/eAgendaMain), which includes search, display, and data transmission options.

2. Subject Matter EPA Websites

Some actions listed in the Agenda include a URL for an EPA-maintained website that provides additional information about the action.

3. Deregulatory Actions and Regulatory Reform

EPA maintains a list of its deregulatory actions under development, as well as those that are completed, at https://www.epa.gov/laws-regulations/epa-deregulatory-actions. A completed list of regulatory actions, as defined under Executive Order 13771, is available at https://www.epa.gov/laws-regulations/epa-regulatory-actions. Additional information about EPA's regulatory reform activity is available to the public at https://www.epa.gov/laws-regulations/regulatory-reform.

4. Public Dockets

When EPA publishes either an Advance Notice of Proposed Rulemaking (ANPRM) or a Notice of Proposed Rulemaking (NPRM) in the Federal Register, the Agency typically establishes a docket to accumulate materials developed throughout the development process for that rulemaking. The docket serves as the repository for the collection of documents or information related to that particular Agency action or activity. EPA most commonly uses dockets for rulemaking actions, but dockets may also be used for section 610 reviews and for various non-rulemaking activities, such as Federal Register documents seeking public comments on draft guidance, policy statements, information collection requests under the PRA, and other non-rule activities. Docket information should be in that action's agenda entry. All of EPA's public dockets can be located at https://www.regulations.gov.

III. Review of Regulations Under 610 of the Regulatory Flexibility Act

A. Reviews of Rules With Significant Impacts on a Substantial Number of Small Entities

Section 610 of the RFA requires that an agency review, within 10 years of promulgation, each rule that has or will have a significant economic impact on a substantial number of small entities. At this time, EPA has three 610 reviews ongoing.

Review title | RIN | Docket ID # | Status
Section 610 Review of Renewable Fuels Standard Program | 2060-AU44 | EPA-HQ-OAR-2019-0168 | Ongoing.
Section 610 Review of National Emission Standards for Hazardous Air Pollutants for Area Sources: Industrial, Commercial, and Institutional Boilers | 2060-AU76 | EPA-HQ-OAR-2020-0099 | Ongoing.
Section 610 Review of National Emission Standards for Hazardous Air Pollutants for Major Sources: Industrial, Commercial and Institutional Boilers and Process Heaters | 2060-AU77 | EPA-HQ-OAR-2020-0106 | Ongoing.

EPA has established public dockets for these 610 reviews. While comments for these reviews are no longer being accepted, submitted comments can be viewed at https://www.regulations.gov/, please see dockets EPA-HQ-OAR-2019-0168, EPA-HQ-OAR-2020-0099, and EPA-HQ-OAR-2020-0106.

B. What other special attention does EPA give to the impacts of rules on small businesses, small governments, and small nonprofit organizations?

For each of EPA's rulemakings, consideration is given to whether there will be any adverse impact on any small entity. EPA attempts to fit the regulatory requirements, to the extent feasible, to the scale of the businesses, organizations, and governmental jurisdictions subject to the regulation.

Under the RFA as amended by SBREFA, the Agency must prepare a formal analysis of the potential negative impacts on small entities, convene a Small Business Advocacy Review Panel (proposed rule stage), and prepare a Small Entity Compliance Guide (final rule stage) unless the Agency certifies a rule will not have a significant economic impact on a substantial number of small entities. For more detailed information about the Agency's policy and practice with respect to implementing the RFA/SBREFA, please visit EPA's RFA/SBREFA website at https://www.epa.gov/reg-flex.

IV. Thank You for Collaborating With Us

Finally, we would like to thank those of you who choose to join with us in making progress on the complex issues involved in protecting human health and the environment. Collaborative efforts such as EPA's open rulemaking process are a valuable tool for addressing the problems we face, and the regulatory agenda is an important part of that process.

Dated: November 12, 2020.
Brittany Bolen,
Associate Administrator, Office of Policy.

10—Prerule Stage
Sequence No. | Title | Regulation Identifier No.
317 | Section 610 Review of National Emission Standards for Hazardous Air Pollutants for Area Sources: Industrial, Commercial, and Institutional Boilers (Section 610 Review) | 2060-AU76
318 | Section 610 Review of National Emission Standards for Hazardous Air Pollutants for Major Sources: Industrial, Commercial and Institutional Boilers and Process Heaters (Section 610 Review) | 2060-AU77

10—Proposed Rule Stage
Sequence No. | Title | Regulation Identifier No.
319 | National Emission Standards for Hazardous Air Pollutants: Ethylene Oxide Commercial Sterilization and Fumigation Operations (Reg Plan Seq No. 78) | 2060-AU37
References in boldface appear in The Regulatory Plan in part II of this issue of the Federal Register.

10—Long-Term Actions
Sequence No. | Title | Regulation Identifier No.
320 | Section 610 Review of Renewable Fuels Standard Program (Section 610 Review) | 2060-AU44

35—Proposed Rule Stage
Sequence No. | Title | Regulation Identifier No.
321 | 1-Bromopropane; Rulemaking Under TSCA Section 6(a) (Reg Plan Seq No. 89) | 2070-AK73
References in boldface appear in The Regulatory Plan in part II of this issue of the Federal Register.

35—Long-Term Actions
Sequence No. | Title | Regulation Identifier No.
322 | Trichloroethylene (TCE); Rulemaking Under TSCA Section 6(a); Vapor Degreasing | 2070-AK11
323 | N-Methylpyrrolidone; Regulation of Certain Uses Under TSCA Section 6(a) | 2070-AK46

72—Final Rule Stage
Sequence No. | Title | Regulation Identifier No.
324 | National Primary Drinking Water Regulations for Lead and Copper: Regulatory Revisions | 2040-AF15

ENVIRONMENTAL PROTECTION AGENCY (EPA)

10

Prerule Stage

317. Section 610 Review of National Emission Standards for Hazardous Air Pollutants for Area Sources: Industrial, Commercial, and Institutional Boilers (Section 610 Review)

E.O. 13771 Designation: Not subject to, not significant.

Legal Authority: 42 U.S.C. 7412 Clean Air Act

Abstract: On March 21, 2011, EPA promulgated National Emission Standards for Hazardous Air Pollutants for Area Sources: Industrial, Commercial, and Institutional Boilers (76 FR 15554). The rule (40 CFR part 63, subpart JJJJJJ) includes standards to control hazardous air pollutant emissions from new and existing industrial, commercial and institutional boilers fired with coal, oil, biomass or other solid and liquid non-waste materials located at area source facilities. Rule amendments that did not impose any additional regulatory requirements beyond those imposed by the March 2011 final rule and, in certain instances, would result in a decrease in burden, were promulgated on February 1, 2013 (78 FR 7488) and September 14, 2016 (81 FR 63112). This entry in the regulatory agenda describes EPA's review of this action pursuant to section 610 of the Regulatory Flexibility Act, “Periodic Review of Rules” (5 U.S.C. 610) to determine if the provisions that could affect small entities should be continued without change or should be rescinded or amended to minimize adverse economic impacts on small entities. As part of this review, EPA is considering comments on the following factors as specified in section 610: (1) The continued need for the rule; (2) the nature of complaints or comments received concerning the rule; (3) the complexity of the rule; (4) the extent to which the rule overlaps, duplicates or conflicts with other federal, state or local government rules; and (5) the degree to which the technology, economic conditions or other factors have changed in the area affected by the rule. The results of EPA's review will be summarized in a report and placed in the rulemaking docket at the conclusion of this review. This review's Docket ID number is EPA-HQ-OAR-2020-0099; the docket can be accessed at www.regulations.gov.

Timetable:

Action | Date | FR Cite
Final Rule | 03/21/11 | 76 FR 15553
Begin Review | 06/30/20 |
End Review | 03/00/21 |

Regulatory Flexibility Analysis Required: No.

Agency Contact: Mary Johnson, Environmental Protection Agency, Office of Air and Radiation, 109 T.W. Alexander Drive, Mail Code D243-01, Research Triangle Park, NC 27711, Phone: 919 541-5025, Email: johnson.mary@epa.gov.

Nick Hutson, Environmental Protection Agency, Office of Air and Radiation, 109 T.W. Alexander Drive, Mail Code D243-01, Research Triangle Park, NC 27711, Phone: 919 541-2968, Fax: 919 541-4991, Email: hutson.nick@epa.gov.

RIN: 2060-AU76

318. Section 610 Review of National Emission Standards for Hazardous Air Pollutants for Major Sources: Industrial, Commercial and Institutional Boilers and Process Heaters (Section 610 Review)

E.O. 13771 Designation: Other.

Legal Authority: 42 U.S.C. 7412 Clean Air Act

Abstract: On March 21, 2011, the EPA promulgated National Emission Standards for Hazardous Air Pollutants for Major Sources: Industrial, Commercial, and Institutional Boilers and Process Heaters (76 FR 15608). The rule (40 CFR part 63, subpart DDDDD) includes standards to control hazardous air pollutant emissions from new and existing industrial, commercial, and institutional boilers and process heaters fired with coal, oil, biomass, natural gas or other solid, liquid or gaseous non-waste materials located at major source facilities. Rule amendments that did impose additional regulatory requirements beyond those imposed by the March 2011 final rule were estimated to result in an increase in burden were promulgated on January 31, 2013 (78 FR 7138). This entry in the regulatory agenda describes EPA's review of this action pursuant to Section 610 of the Regulatory Flexibility Act, “Periodic Review of Rules” (5 U.S.C. 610) to determine if the provisions that could affect small entities should be continued without change or should be rescinded or amended to minimize adverse economic impacts on small entities. As part of this review, EPA is considering comments on the following factors as specified in Section 610: (1) The continued need for the rule; (2) the nature of complaints or comments received concerning the rule; (3) the complexity of the rule; (4) the extent to which the rule overlaps, duplicates or conflicts with other federal, state or local government rules; and (5) the degree to which the technology, economic conditions or other factors have changed in the area affected by the rule. The results of EPA's review will be summarized in a report and placed in the rulemaking docket at the conclusion of this review. This review's Docket ID number is EPA-HQ-OAR-2020-0106; the docket can be accessed at www.regulations.gov.

Timetable:

Action | Date | FR Cite
Final Rule | 03/21/11 | 76 FR 15607
Begin Review | 06/30/20 |
End Review | 03/00/21 |

Regulatory Flexibility Analysis Required: No.

Agency Contact: Jim Eddinger, Environmental Protection Agency, Office of Air and Radiation, 109 T.W. Alexander Drive, Mail Code D243-01, Research Triangle Park, NC 27711, Phone: 919 541-5426, Email: eddinger.jim@epa.gov.

Nick Hutson, Environmental Protection Agency, Office of Air and Radiation, 109 T.W. Alexander Drive, Mail Code D243-01, Research Triangle Park, NC 27711, Phone: 919 541-2968, Fax: 919 541-4991, Email: hutson.nick@epa.gov.

RIN: 2060-AU77

ENVIRONMENTAL PROTECTION AGENCY (EPA)

10

Proposed Rule Stage

319. National Emission Standards for Hazardous Air Pollutants: Ethylene Oxide Commercial Sterilization and Fumigation Operations

Regulatory Plan: This entry is Seq. No. 78 in part II of this issue of the Federal Register.

RIN: 2060-AU37

ENVIRONMENTAL PROTECTION AGENCY (EPA)

10

Long-Term Actions

320. Section 610 Review of Renewable Fuels Standard Program (Section 610 Review)

E.O. 13771 Designation: Not subject to, not significant.

Legal Authority: 5 U.S.C. 610

Abstract: The rulemaking “Regulation of Fuels and Fuel Additives: Changes to Renewable Fuel Standard Program” was finalized by EPA in March 2010 (75 FR 14669, March 26, 2010). The final regulations made a number of changes to the existing Renewable Fuel Standard program while retaining many elements of the compliance and trading system already in place. The final rule also implemented the revised statutory definitions and criteria, most notably the greenhouse gas emission thresholds for renewable fuels and new limits on renewable biomass feedstocks. This entry in the regulatory agenda describes EPA's review of this action pursuant to section 610 of the Regulatory Flexibility Act (5 U.S.C. 610). As part of this review, EPA is considering comments on the following factors: (1) The continued need for the rule; (2) the nature of complaints or comments received concerning the rule; (3) the complexity of the rule; (4) the extent to which the rule overlaps, duplicates, or conflicts with other Federal, State, or local government rules; and (5) the degree to which the technology, economic conditions or other factors have changed in the area affected by the rule.

Timetable:

Action | Date | FR Cite
Final Rule | 03/26/10 | 75 FR 14669
Begin Review | 06/24/19 | 84 FR 29689
Comment Period Extended | 08/27/19 | 84 FR 44804
End Review | To Be Determined

Regulatory Flexibility Analysis Required: Yes.

Agency Contact: Jessica Mroz, Environmental Protection Agency, Office of Air and Radiation, 1200 Pennsylvania Avenue NW, Washington, DC 20460, Phone: 202 564-1094, Email: mroz.jessica@epa.gov.

Julia Burch, Environmental Protection Agency, Office of Air and Radiation, 1200 Pennsylvania Avenue NW, Washington, DC 20460, Phone: 202 564-0961, Email: burch.julia@epa.gov.

RIN: 2060-AU44

ENVIRONMENTAL PROTECTION AGENCY (EPA)

35

Proposed Rule Stage

321. • 1-Bromopropane; Rulemaking Under TSCA Section 6(A)

Regulatory Plan: This entry is Seq. No. 89 in part II of this issue of the Federal Register.

RIN: 2070-AK73

ENVIRONMENTAL PROTECTION AGENCY (EPA)

35

Long-Term Actions

322. Trichloroethylene (TCE); Rulemaking Under TSCA Section 6(A); Vapor Degreasing

E.O. 13771 Designation: Regulatory.

Legal Authority: 15 U.S.C. 2605 Toxic Substances Control Act

Abstract: Section 6(a) of the Toxic Substances Control Act (TSCA) provides authority for EPA to ban or restrict the manufacture (including import), processing, distribution in commerce, and use of chemical substances, as well as any manner or method of disposal. Section 26(l)(4) of TSCA authorizes EPA to issue rules under TSCA section 6 for chemicals listed in the 2014 update to the TSCA Work Plan for Chemical Assessments for which EPA published completed risk assessments prior to June 22, 2016, consistent with the scope of the completed risk assessment. In the June 2014 TSCA Work Plan Chemical Risk Assessment for trichloroethylene (TCE), EPA characterized risks from the use of TCE in commercial degreasing and in some consumer uses. EPA has preliminarily determined that these risks are unreasonable risks. On January 19, 2017, EPA proposed to prohibit the manufacture, processing, distribution in commerce, or commercial use of TCE in vapor degreasing. A separate action (RIN 2070-AK03), published on December 16, 2016, proposed to address the unreasonable risks from TCE when used as a spotting agent in dry cleaning and in commercial and consumer aerosol spray degreasers. The uses identified in the proposed rules are being considered as part of the risk evaluation currently being conducted for TCE under TSCA section 6(b).

Timetable:

Action | Date | FR Cite
NPRM | 01/19/17 | 82 FR 7432
Final Rule | To Be Determined

Regulatory Flexibility Analysis Required: Yes.

Agency Contact: Toni Krasnic, Environmental Protection Agency, Office of Chemical Safety and Pollution Prevention, 1200 Pennsylvania Avenue NW, Mail Code 7405M, Washington, DC 20460, Phone: 202 564-0984, Email: krasnic.toni@epa.gov.

Joel Wolf, Environmental Protection Agency, Office of Chemical Safety and Pollution Prevention, 1200 Pennsylvania Avenue NW, Mail Code 7405M, Washington, DC 20460, Phone: 202 564-0432, Email: wolf.joel@epa.gov.

RIN: 2070-AK11

323. N-Methylpyrrolidone; Regulation of Certain Uses Under TSCA Section 6(A)

E.O. 13771 Designation: Regulatory

Legal Authority: 15 U.S.C. 2605 Toxic Substances Control Act

Abstract: Section 6(a) of the Toxic Substances Control Act (TSCA) provides authority for EPA to ban or restrict the manufacture (including import), processing, distribution in commerce, and use of chemical substances, as well as any manner or method of disposal. Section 26(l)(4) of TSCA authorizes EPA to issue rules under TSCA section 6 for chemicals listed in the 2014 update to the TSCA Work Plan for Chemical Assessments for which EPA published completed risk assessments prior to June 22, 2016, consistent with the scope of the completed risk assessment and other applicable requirements of section 6. N-methylpyrrolidone (NMP) is used in paint and coating removal in commercial processes and consumer products. In the March 2015 TSCA Work Plan Chemical Risk Assessment for NMP, EPA characterized risks from use of this chemical in paint and coating removal. On January 19, 2017, EPA preliminarily determined that the use of NMP in paint and coating removal poses an unreasonable risk of injury to health. In the final rule for methylene chloride in consumer paint and coating removal (RIN 2070-AK07), EPA explained that the Agency was not finalizing the proposed regulation for NMP as part of that action. NMP use in paint and coating removal was incorporated into the risk evaluation currently being conducted under TSCA section 6(b).

Timetable:

Action | Date | FR Cite
NPRM | 01/17/17 | 82 FR 7464
Final Rule | To Be Determined

Regulatory Flexibility Analysis Required: Yes.

Agency Contact: Eileen Sheehan, Environmental Protection Agency, Office of Chemical Safety and Pollution Prevention, USEPA Region 9, 75 Hawthorne Street, San Francisco, CA 94105, Phone: 415 972-3287, Email: sheehan.eileen@epa.gov.

Joel Wolf, Environmental Protection Agency, Office of Chemical Safety and Pollution Prevention, 1200 Pennsylvania Avenue NW, Mail Code 7405M, Washington, DC 20460, Phone: 202 564-0432, Email: wolf.joel@epa.gov.

RIN: 2070-AK46

ENVIRONMENTAL PROTECTION AGENCY (EPA)

72

Final Rule Stage

324. National Primary Drinking Water Regulations for Lead And Copper: Regulatory Revisions

E.O. 13771 Designation: Regulatory.

Legal Authority: 42 U.S.C. 300f et seq., Safe Drinking Water Act

Abstract: EPA finalized revisions to the Lead and Copper Rule (LCR) to include a suite of actions to reduce lead exposure in drinking water where it is needed the most. The final rule identifies the most at-risk communities to ensure systems have plans in place to rapidly respond by taking actions to reduce elevated levels of lead in drinking water. The final LCR maintains the current Maximum Contaminant Level Goal (MCLG) of zero and the Action Level of 15 ppb. The rule requires a more comprehensive response at the action level and introduces a trigger level of 10 ppb that requires more proactive planning in communities with lead service lines. The revisions also include requirements for water systems to prepare an inventory of known lead service lines and to make the inventory publicly available. The final LCR takes a proactive and holistic approach to improving the current rule—from testing to treatment to telling the public about the levels and risks of lead in drinking water. This approach focuses on the following six key areas: (1) Identifying areas most impacted; (2) strengthening treatment requirements; (3) replacing lead service lines; (4) increasing sampling; (5) improving risk communication; and (6) protecting children in schools.

Timetable:

Action | Date | FR Cite
NPRM | 11/13/19 | 84 FR 61684
Final Rule | 11/00/20 |

Regulatory Flexibility Analysis Required: Yes.

Agency Contact: Jeffrey Kempic, Environmental Protection Agency, Office of Water, 4607M, Washington, DC 20460, Phone: 202 564-4880, Email: kempic.jeffrey@epa.gov.

Lisa Christ, Environmental Protection Agency, Office of Water, 1200 Pennsylvania Avenue NW, Washington, DC 20460, Phone: 202 564-8354, Email: christ.lisa@epa.gov.

RIN: 2040-AF15

[FR Doc. 2021-04336 Filed 3-30-21; 8:45 am]

BILLING CODE 6560-50-P